DEPARTMENT OF DEFENSE

Department of the Navy

[Docket ID USN-2009-0020]

Privacy Act of 1974; System of Records

AGENCY: U.S. Marine Corps, DoD.

ACTION: Notice to add a system of records.

SUMMARY: The U.S. Marine Corps is proposing to add a new system of records notice to its existing inventory of records systems subject to the Privacy Act of 1974, (5 U.S.C. 552a), as amended.

DATES: This proposed action will be effective without further notice on November 25, 2009 unless comments are received which result in a contrary determination.

ADDRESSES: Send comments to Headquarters, U.S. Marine Corps, FOIA/PA Section (ARSF), 2 Navy Annex, Room 3134, Washington, DC 20380-1775.

FOR FURTHER INFORMATION CONTACT: Ms. Tracy Ross at (703) 614-4008.

SUPPLEMENTARY INFORMATION: The U.S. Marine Corps system of records notices subject to the Privacy Act of 1974, (5 U.S.C. 552a), as amended, have been published in the Federal Register and are available from the address above.

The proposed system report, as required by 5 U.S.C. 552a(r), of the Privacy Act of 1974, as amended, was submitted on October 15, 2009, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: October 15, 2009.
Patricia L. Toppings,
OSD Federal Register Liaison Officer, Department of Defense.

M11240

System:

Transportation Capacity Planning Tool (TCPT).

System location:

Marine Corps Systems Command (MCSC), Office of the Chief Information Officer (OCIO), 2201A Marine Corps Base, Quantico, Virginia 22134-5103.

Categories of individuals covered by the system:

Any Marines (active, reserve and retired), sailors, civilians, or contractors.

Categories of records in the system:

Full name, rank, title, date of birth, last 4 digits of the Social Security Number (SSN), address, email address, unit, military driver's license, gender and U.S. Government Motor Vehicle Operator's Identification Card (SF 46).

Authority for maintenance of the system:

5 U.S.C. 301, Departmental Regulations and 10 U.S.C. 5031; 10 U.S.C. 5013, Secretary of the Navy; 10 U.S.C. 5041, Headquarters Marine Corps; 10 U.S.C. 5042, Headquarters, Marine Corps: general duties; MCO 11240.66D, Standard Licensing Policy for Operations of Military Motor Vehicles; MARADMIN 444/05, Logistic Modernization (LOGMOD) and feeds to the Marine, Air-Ground, Task Force (MAGTF) command and control (C2)—interim guidance and road ahead; SECNAVINST 5000.36, Department of the Navy Data Management and Interoperability; and E.O. 9397 (SSN), as amended.

Purpose(s):

Provides a Web-based tool for transportation planning, equipment management, execution capabilities and tracking for the Operating Forces to support the Warfighter.

Routine uses of records maintained in the system, including categories of users and the purposes of such uses:

In addition to those disclosures generally permitted under 5 U.S.C. 552a (b) of the Privacy Act of 1974, these records contained therein may specifically be disclosed outside the DoD as a routine use pursuant to 5 U.S.C. 552a(b)(3) as follows:

The DoD “Blanket Routine Uses” set forth at the beginning of the Marine Corps' compilation of systems of records notices apply to this system.

Policies and practices for storing, retrieving, accessing, retaining, and disposing of records in the system:

Storage:

Electronic storage media.

Retrievability:

Records are retrieved by last name and last 4 digits of the Social Security Number (SSN).

Safeguards:

Records are maintained in an electronic data base only accessible by authorized officials. Physical security is being provided by Marine Corps Systems Command, Office of the Chief Information Officer managed hosting facility. Personnel access to the building and enclave of servers is controlled with badges using an Access Control System and cipher lock codes on a “need to know” basis. Military police and a Command Duty Officer routinely check buildings for physical security and notify the building manager when potential security violations occur.

Retention and disposal:

Retain on board. Destroy 3 years after separation of employee or 3 years after rescission of authorization to operate government owned vehicles, whichever is earlier.

System manager(s) and address:

Marine Corps System Command, Chief Information Office: Building 2201A, Marines Corps Base, Quantico, Virginia 22134-5010.

Notification procedure:

Individuals seeking to determine whether this system of records contains information about themselves should address written inquiries to Marine Corps Systems Command, Program Manager (PM) Global Combat Support System—Marine Corps (GCSS-MC), 118300 Quantico Gateway Drive, Gateway Bldg 1, Triangle, VA 22172-5103.

The request should include full name, last 4 digits of the Social Security Number (SSN), and address of the individual concerned and should be signed.

Record access procedures:

Individuals seeking access to information about themselves contained in this system should address written inquiries to Marine Corps Systems Command, PM GCSS-MC, 118300 Quantico Gateway Drive, Gateway Bldg 1, Triangle, VA 22172-5103.

The request should include full name, last 4 digits of the Social Security Number (SSN), and address of the individual concerned and should be signed.

Contesting record procedures:

The Marine Corps rules for contesting contents and appealing initial agency determinations are published in Secretary of the Navy Instruction 5211.5; Marine Corps Order P5211.2; 32 CFR part 701; or may be obtained from: Marine Corps Systems Command, PM GCSS-MC, 118300 Quantico Gateway Drive, Gateway Bldg 1, Triangle, VA 22172-5103.

Record source categories:

From the individual.

Exemptions claimed for the system:

None.

[FR Doc. E9-25706 Filed 10-23-09; 8:45 am]

BILLING CODE 5001-06-P